DEPARTMENT OF THE INTERIOR

Bureau of Indian Affairs

Implementation of Indian Reservation Roads Program and Streamlining the Federal Delivery of Tribal Transportation Services

AGENCY: Bureau of Indian Affairs, Interior.

ACTION: Notice of Tribal Consultations and Informational Meetings.

SUMMARY: The Bureau of Indian Affairs (BIA) is announcing tribal consultations to discuss the following topics: (1) Changes in calculation of the Relative Needs Distribution Formula (RNDF) used to allocate Indian Reservation Roads (IRR) funding among tribes; (2) streamlining BIA delivery of transportation program services to tribal governments; and (3) update on implementation of “Question 10.” The BIA and the Federal Highway Administration (FHWA) will also present an update on legislation involving the Indian Reservation Roads program.

DATES: See the SUPPLEMENTARY INFORMATION section of this notice for consultation dates.

ADDRESSES: See the SUPPLEMENTARY INFORMATION section of this notice for locations where the consultations will be held.

FOR FURTHER INFORMATION CONTACT: LeRoy M. Gishi, Chief, Division of Transportation, Bureau of Indian Affairs, 1849 C Street NW., MS-4513, Washington, DC 20240, telephone (202) 513-7711; or Robert W. Sparrow, Jr., IRR Program Manager, Federal Highway Administration, 1200 New Jersey Ave. SE., Room E61-311, Washington, DC 20159, telephone (202) 366-9483.

SUPPLEMENTARY INFORMATION: Federally recognized tribes are invited to attend consultation and informational sessions regarding:

• A joint BIA and FWHA recommendation for changing how the Proposed Roads and Access Roads will contribute to the calculation of the RNDF for IRR Program funds. The recommendation is significant because it clarifies the criteria required for certain transportation facilities to generate RNDF funding and may affect the allocation of IRR Program funding among tribes. Proposed roads are defined by 25 CFR 170.5 as, “a road which does not currently exist and needs to be constructed.” A primary access route is the shortest feasible route connecting two points, including roads between villages, roads to landfills, roads to drinking water sources, roads to natural resources identified for economic development, and roads that provide access to intermodal termini, such as airports, harbors, or boat landings. See 23 U.S.C. 202(d)(2)(G).

• Your recommendations on how BIA could streamline its delivery and efficiency of transportation program services provided to tribal governments. Changes enacted in the Safe, Accountable, Flexible, Efficient Transportation Equity Act—A Legacy for Users, Public Law 109-59 (SAFETEA-LU), expanded options for tribes to carry out the IRR program, including entering into agreements directly with FHWA. Recently, BIA has developed an additional method for tribes to carry out the IRR program that is similar to FHWA's agreements. These changes have affected certain aspects of how the Federal functions of the IRR program are carried out by BIA. As a result, BIA has begun considering options for changing its IRR program management structure and oversight, as well as how technical assistance is provided to tribal transportation entities.

• An update on the implementation of “Question 10” from appendix C to subpart C of 25 CFR part 170. This question addresses the weight assigned a transportation facility's costs to construct (CTC) and vehicle miles traveled (VMT) in calculating the RNDF. In 2010, BIA and FHWA presented a joint recommendation for how a transportation facility should be calculated at the non-Federal share under Question 10 and consulted with tribes over three months at ten locations across the country on this subject. Question 10 states, in part:

10. Do All IRR Transportation Facilities in the IRR Inventory Count at 100 Percent of their CTC and VMT?

No. The CTC and VMT must be computed at the non-Federal share requirement for matching funds for any transportation facility that is added to the IRR inventory and is eligible for funding for construction or reconstruction with Federal funds, other than Federal Lands Highway Program funds.

After consulting with tribes in 2010, BIA and FHWA began clarification of Question 10, including a review of the IRR inventory and its compatibility with the Federal-aid highways functional classification system. For additional information regarding the Question 10 consultations, please see 75 FR 40849 (July 14, 2010). The update will include discussion about implementation of the Question 10 recommendation since 2010, and BIA and FHWA will invite additional input from tribal leaders and the public about their views on its effectiveness.

Meeting Dates and Locations

The consultation sessions will be held on the following dates, at the following locations:

Meeting date | Location | Time
June 5, 2012 | Anchorage, AK | 9 a.m.-4:30 p.m.
June 7, 2012 | Spokane, WA | 9 a.m.-4:30 p.m.
June 12, 2012 | Albuquerque, NM | 9 a.m.-4:30 p.m.
June 13, 2012 | Phoenix, AZ | 9 a.m.-4:30 p.m.
June 14, 2012 | Sacramento, CA | 9 a.m.-4:30 p.m.
June 19, 2012 | Nashville, TN | 9 a.m.-4:30 p.m.
June 20, 2012 | Oklahoma City, OK | 9 a.m.-4:30 p.m.
June 21, 2012 | Lincoln, NE | 9 a.m.-4:30 p.m.
June 26, 2012 | Billings, MT | 9 a.m.-4:30 p.m.
June 27, 2012 | Rapid City, SD | 9 a.m.-4:30 p.m.
June 28, 2012 | Mount Pleasant, MI | 9 a.m.-4:30 p.m.

Meeting Agenda (All Times Local)

9:00 a.m.-9:15 a.m. Welcome and Introductions

9:15 a.m.-10:45 a.m. Proposed/Access Roads (Recommendation, Expectations, Implementation)

10:45 a.m.-11:00 a.m. Break

11:00 a.m.-11:45 a.m. Reauthorization Update

11:45 a.m.-1:00 p.m. Lunch

1:00 p.m.-3:00 p.m. Tribal Transportation Program Streamlining

3:00 p.m.-3:15 p.m. Break

3:15 p.m.-4:00 p.m. Question 10 Update

4:00 p.m.-4:30 p.m. Closing Comments

4:30 p.m. Adjourn

Dated: May 1, 2012.
Donald E. Laverdure,
Acting Assistant Secretary—Indian Affairs.

[FR Doc. 2012-10948 Filed 5-4-12; 8:45 am]

BILLING CODE P